GENERAL SERVICES ADMINISTRATION

[OMB Control No. 3090-0163; Docket No. 2020-0001; Sequence No. 11]

Submission for OMB Review; General Services Acquisition Regulation; Information Specific to a Contract or Contracting Action (Not Required by Regulation)

AGENCY: Office of Acquisition Policy, General Services Administration (GSA).

ACTION: Notice of request for public comments regarding an extension to an existing OMB information collection.

SUMMARY: Under the provisions of the Paperwork Reduction Act, the Regulatory Secretariat Division will be submitting to the Office of Management and Budget (OMB) a request to review and approve an extension of a previously approved information collection requirement regarding information specific to a contract or contracting action that is not required by regulation.

DATES: Submit comments on or before: January 21, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Clarence Harrison, Procurement Analyst, GSA Acquisition Policy Division, at telephone 202-227-7051 or email GSARPolicy@gsa.gov.

SUPPLEMENTARY INFORMATION:

A. Purpose

GSA has various mission responsibilities related to the acquisition and provision of supplies, transportation, information technology, telecommunications, real property management, and disposal of real and personal property. These mission responsibilities generate requirements that are realized through the solicitation and award of public contracts.

Most GSA procurement-related information collections are required by the Federal Acquisition Regulation (FAR) or General Services Administration Acquisition Regulation (GSAR); each clause requiring such a collection must be individually approved by OMB. However, some solicitations require contractors to submit information specific to that contracting action, such as information needed to evaluate offers (e.g. specific instructions for technical and price proposals, references for past performance) or data used to administer resulting contracts (e.g. project management plans).

This information collection is currently associated with GSA's information collection requirements contained in solicitations issued in accordance with the Uniform Contract Format under FAR Part 14, Sealed Bidding (see GSAR 514.201-1); FAR Part 15, Contracting by Negotiation (see GSAR 552.215-73); and solicitations under FAR Part 12, Acquisition of Commercial Items (see GSAR 512.301). This includes information collection requirements found in GSA Federal Supply Schedule (FSS) solicitations.

B. Annual Reporting Burden

Respondents: 2,597,377.

Responses per Respondent: 1.

Total Responses: 2,597,377.

Hours Per Response: .40.

Total Burden Hours: 1,038,950.

C. Public Comments

A notice was published in the Federal Register at 85 FR 62731 on October 5, 2020. Two comments were received. No changes were made to the information collection requirements or supporting statement as a result of the public comments, because they were not applicable to the policy.

Obtaining Copies of Proposals: Requesters may obtain a copy of the information collection documents from the GSA Regulatory Secretariat Division, by calling 202-501-4755 or emailing GSARegSec@gsa.gov. Please cite OMB Control No. 3090-0163, Information Specific to a Contract or Contracting Action (Not Required by Regulation), in all correspondence.

Jeffrey Koses,
Senior Procurement Executive, Office of Acquisition Policy, Office of Government-wide Policy.

[FR Doc. 2020-28187 Filed 12-21-20; 8:45 am]

BILLING CODE 6820-61-P